DEPARTMENT OF HEALTH AND HUMAN SERVICES

National Institutes of Health

Proposed Collection; 60-Day Comment Request; National Cancer Institute (NCI) Generic Clearance for Application Information From Fellows, Interns, and Trainees

AGENCY: National Institutes of Health, HHS.

ACTION: Notice.

SUMMARY: In compliance with the requirement of the Paperwork Reduction Act of 1995 to provide an opportunity for public comment on proposed data collection projects, the National Cancer Institute (NCI) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact Melissa Park, PRA Liaison, Office of Management Policy and Compliance, National Cancer Institute, 9609 Medical Center Drive, Room 2E196, Bethesda, Maryland 20892 or call non-toll-free number (240) 276-5717 or email your request, including your address to: melissa.park@nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Generic Clearance for Application Information from Fellows, Interns, and Trainees, 0925-0761, Expiration Date 07/31/2025, EXTENSION, National Cancer Institute (NCI), National Institutes of Health (NIH).

Need and Use of Information Collection: The “Generic Clearance for Application Information from Fellows, Interns, and Trainees” request supports research experiences for high school, post-baccalaureate (including post-masters) individuals, graduate students, and postdoctoral fellows, interns, and trainees in a multidisciplinary environment at the NCI. This information collection request is for applications, reference letters, letters of intent and interest, and other related documentation necessary for various Divisions, Offices, and Centers at NCI to evaluate the eligibility, merits, and quality of potential candidates. The applications will also assist in matching potential candidates to various training and internship programs. The information is for internal use to make decisions about candidates invited to visit and attend NCI fellowships, internships, and other training opportunities.

OMB approval is requested for 3 years. There are no costs to respondents other than their time. The total estimated annualized burden hours are 22,215 hours.

Estimated Annualized Burden Hours
Category of respondent | Number of respondents | Number of responses per respondent | Average time per response (in hours) | Total annual burden hours
Individuals (Applicants) | 9,873 | 1 | 45/60 | 7,405
Individuals (Reference Letters) | 29,619 | 1 | 30/60 | 14,810
Totals |  | 39,492 |  | 22,215

Dated: April 24, 2025.
Melissa M. Park,
Project Clearance Liaison, National Cancer Institute, National Institutes of Health.

[FR Doc. 2025-07412 Filed 4-29-25; 8:45 am]

BILLING CODE 4140-01-P